DEPARTMENT OF ENERGY

Federal Energy Regulatory Commission

Combined Notice of Filings #1

December 11, 2008.

Take notice that the Commission received the following electric rate filings:

Docket Numbers: ER99-3426-009.

Applicants: San Diego Gas & Electric Company.

Description: San Diego Gas & Electric Co. submits a clean and black-lined tariff sheet to reflect the affiliate transaction authorization granted in the FERC's 11/6/08 letter order.

Filed Date: 12/08/2008.

Accession Number: 20081210-0062.

Comment Date: 5 p.m. Eastern Time on Monday, December 29, 2008.

Docket Numbers: ER00-2738-008; ER00-2740-008; ER01-1721-006; ER02-564-006; ER06-653-003; ER99-1004-009.

Applicants: Nuclear Fitzpatrick, LLC; Entergy Nuclear Generation Company; Entergy Nuclear Indian Point 2, LLC; Entergy Nuclear Indian Point 3, LLC; Entergy Nuclear Vermont Yankee, LLC; Entergy Nuclear Power Marketing, LLC.

Description: Entergy Nuclear Affiliates submits an amendment to the June 30, 2008 filing.

Filed Date: 08/19/2008.

Accession Number: 20080820-0054.

Comment Date: 5 p.m. Eastern Time on Monday, December 15, 2008.

Docket Numbers: ER04-691-091.

Applicants: Midwest Independent System Transmission System Operator, Inc.

Description: Midwest Independent Transmission System Operator, Inc. submits proposed revisions to the Open Access Transmission and Markets Tariff (EMT), etc.

Filed Date: 12/08/2008.

Accession Number: 20081210-0065.

Comment Date: 5 p.m. Eastern Time on Monday, December 29, 2008.

Docket Numbers: ER04-230-041; ER01-3155-026; ER01-1385-035; EL01-45-034.

Applicants: New York Independent System Operator, Inc.; Consolidated Edison Company of New York.

Description: Sixteenth Quarterly Report regarding NYISO efforts to accommodate batch loads and flywheel energy storage technologies in its ancillary services markets as well as improved utilization of combined cycle units.

Filed Date: 12/08/2008.

Accession Number: 20081208-5173.

Comment Date: 5 p.m. Eastern Time on Monday, December 29, 2008.

Docket Numbers: ER07-265-007.

Applicants: Sempra Energy Solutions LLC.

Description: Sempra Energy Solutions LLC submits revisions to its Fourth Revised Rate Schedule FERC 1 to reflect certain authorizations granted by the Commission on 11/6/08.

Filed Date: 12/08/2008.

Accession Number: 20081210-0063.

Comment Date: 5 p.m. Eastern Time on Monday, December 29, 2008.

Docket Numbers: ER09-84-001.

Applicants: American Electric Power Service Corporation.

Description: American Electric Power Service Corporation submits amendments to its 10/16/08 filing.

Filed Date: 12/01/2008.

Accession Number: 20081205-0033.

Comment Date: 5 p.m. Eastern Time on Monday, December 22, 2008.

Docket Numbers: ER09-382-000.

Applicants: Hay Canyon Wind LLC.

Description: Hay Canyon Wind LLC submits an application requesting that FERC accept for filing its FERC Electric Tariff, Original Volume 1, etc.

Filed Date: 12/08/2008.

Accession Number: 20081210-0070.

Comment Date: 5 p.m. Eastern Time on Monday, December 29, 2008.

Docket Numbers: ER09-385-000.

Applicants: Midwest Independent System Transmission System Operator, Inc.

Description: Midwest Independent Transmission System Operator, Inc. submits proposed revisions to its Open Access Transmission, Energy and Operating Reserve Markets Tariff, etc.

Filed Date: 12/09/2008.

Accession Number: 20081210-0069.

Comment Date: 5 p.m. Eastern Time on Tuesday, December 30, 2008.

Docket Numbers: ER09-386-000.

Applicants: Reliant Energy Wholesale Generation, LLC.

Description: Reliant Energy Wholesale Generation, LLC submits Notice of Cancellation of Seward's market-based rate tariff.

Filed Date: 12/09/2008.

Accession Number: 20081210-0068.

Comment Date: 5 p.m. Eastern Time on Tuesday, December 30, 2008.

Docket Numbers: ER09-387-000.

Applicants: Florida Power Corporation.

Description: Florida Power Corporation et al. submit proposed modifications to the Contract for Interchange Service with Tampa Electric Company designated as First Revised Rate Schedule 80.

Filed Date: 12/09/2008.

Accession Number: 20081210-0067.

Comment Date: 5 p.m. Eastern Time on Tuesday, December 30, 2008.

Docket Numbers: ER09-388-000.

Applicants: Tampa Electric Company.

Description: Tampa Electric Company submits First Revised Sheet 12 et al. to its First Revised Rate Schedule FERC 6, effective 11/8/08.

Filed Date: 12/08/2008.

Accession Number: 20081210-0071.

Comment Date: 5 p.m. Eastern Time on Monday, December 29, 2008.

Docket Numbers: ER09-389-000.

Applicants: Niagara Mohawk Power Corporation.

Description: Niagara Mohawk Power Corporation submits the Lease Agreements with the Village of Bergen dated 7/31/03.

Filed Date: 12/08/2008.

Accession Number: 20081210-0064.

Comment Date: 5 p.m. Eastern Time on Monday, December 29, 2008.

Docket Numbers: ER09-390-000.

Applicants: PJM Interconnection, LLC.

Description: PJM Interconnection, LLC submits revisions to the PJM Open Access Transmission Tariff pursuant to Section 205 of the Federal Power Act, effective 12/12/08.

Filed Date: 12/09/2008.

Accession Number: 20081210-0066.

Comment Date: 5 p.m. Eastern Time on Tuesday, December 30, 2008.

Docket Numbers: ER09-391-000.

Applicants: Portland General Electric Company.

Description: Portland General Electric Company submits First Revised Rate Schedule FERC No. 185, a General Transmission Agreement for Integration of Resources with the Bonneville Power Administration.

Filed Date: 12/09/2008.

Accession Number: 20081210-0072.

Comment Date: 5 p.m. Eastern Time on Tuesday, December 30, 2008.

Take notice that the Commission received the following open access transmission tariff filings:

Docket Numbers: OA08-141-001.

Applicants: Deseret Generation & Transmission Co-operative, Inc.

Description: Deseret Generation & Transmission Co-operative, Inc.'s Errata to Order No. 890-B Compliance Filing.

Filed Date: 12/10/2008.

Accession Number: 20081210-5131.

Comment Date: 5 p.m. Eastern Time on Wednesday, December 31, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-30260 Filed 12-19-08; 8:45 am]

BILLING CODE 6717-01-P